DEPARTMENT OF ENERGY

Federal Energy Regulatory Commission

[Docket No. RP04-136-004]

Iroquois Gas Transmission System, L.P.; Notice Tariff Filing

July 12, 2004.

Take notice that on June 30, 2004, Iroquois Gas Transmission System, L.P. (Iroquois) tendered for filing as part of its FERC Gas Tariff, First Revised Volume No. 1, Second Substitute Original Sheet No. 4C, to be effective on July 1, 2004.

Iroquois states that the purpose of this filing is to place the suspended rates into effect on July 1, 2004, in accordance with the Commission's regulations at 18 CFR § 154.206. Iroquois indicates that inasmuch as there have been no Commission orders directing changes to the filed rates, the only required modification is to eliminate “costs for facilities not certificated and in service as of the proposed effective date.”

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1596 Filed 7-15-04; 8:45 am]

BILLING CODE 6717-01-P